DEPARTMENT OF TRANSPORTATION

Pipeline and Hazardous Materials Safety Administration

[Docket No. PHMSA-2025-1107]

Pipeline Safety: Minimum Random Drug Testing Rate for Calendar Year 2026

AGENCY: Pipeline and Hazardous Materials Safety Administration (PHMSA), Department of Transportation (DOT).

ACTION: Notice.

SUMMARY: PHMSA has determined that the minimum annual percentage rate for random drug testing for covered employees will be 50 percent during calendar year (CY) 2026.

DATES: Applicable January 1, 2026 through December 31, 2026.

FOR FURTHER INFORMATION CONTACT: Wayne Lemoi, Drug & Alcohol Program Manager, Office of Pipeline Safety, by phone at 909-937-7232 or by email at wayne.lemoi@dot.gov.

SUPPLEMENTARY INFORMATION:

Notice of CY 2026 Minimum Annual Percentage Rate for Random Drug Testing

Operators of gas, hazardous liquid, and carbon dioxide pipeline facilities; liquefied natural gas plants; and underground natural gas storage facilities must randomly select and test a percentage of all drug and alcohol (D&A) covered employees for prohibited drug use in accordance with 49 Code of Federal Regulations (CFR) part 199.

The Administrator can adjust the minimum random drug testing rate based on the reported positive rate of the industry's random drug tests, which is obtained from operators' and contractors' annual Drug and Alcohol Management Information System (DAMIS) reports as required by section 199.119(a). In accordance with § 199.105(c)(3), if the reported positive drug test rate is below one percent for two consecutive CYs, the Administrator may lower the random drug testing rate to 25 percent of all covered employees. Conversely, § 199.105(c)(4) requires the Administrator to raise the minimum annual random drug testing rate from 25 percent to 50 percent [or maintain the rate at 50 percent] of all covered employees when the data obtained from the latest annual DAMIS reports required by § 199.119(a) indicate the positive test rate is equal to or greater than one percent.

The minimum annual random drug testing rate was 50 percent of all covered employees during CY 2025. The DAMIS reports submitted for CY 2024 testing had a random drug testing positive rate greater than one percent. Therefore, the Administrator is maintaining the minimum annual random drug testing rate at 50 percent of all covered employees for CY 2026.

Issued in Washington, DC, on December 4, 2025, under authority delegated in 49 CFR 1.97.
Linda Daugherty,
Acting Associate Administrator for Pipeline Safety.

[FR Doc. 2025-22326 Filed 12-8-25; 8:45 am]

BILLING CODE 4910-60-P